FEDERAL COMMUNICATIONS COMMISSION

47 CFR Part 73

[DA 03-1933; MB Docket No. 03-68, RM-10564, RM-10656]

Radio Broadcasting Services; Fort Stockton and Sanderson, TX

AGENCY: Federal Communications Commission.

ACTION: Final rule.

SUMMARY: The Audio Division, at the request of Linda Crawford, allots Channel 263C to Fort Stockton, Texas, as the community's second local FM aural transmission service. See 68 FR 15141, March 28, 2003. Channel 263C can be allotted to Fort Stockton, in compliance with the Commission's minimum distance separation requirements, provided there is a site restriction of 13.8 kilometers (8.6 miles) southeast of the community. The reference coordinates for Channel 263C at Fort Stockton are 30-50-06 North Latitude and 102-45-06 West Longitude. This document also dismissed a Petition for Rule Making filed by Katherine Pyeatt proposing the allotment of Channel 261C3 at Sanderson, Texas, as that community's first local FM aural transmission service. A filing window for Channel 263C at Fort Stockton, Texas, will not be opened at this time. Instead, the issue of opening a filing window for this channel will be addressed by the Commission in a subsequent order.

DATES: Effective August 4, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 03-68, adopted June 18, 2003, and released June 20, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Channel 263C at Fort Stockton.

Federal Communications Commission.
John A. Karousos,
Assistant Chief, Audio Division, Media Bureau.

[FR Doc. 03-16961 Filed 7-3-03; 8:45 am]

BILLING CODE 6712-01-P